DEPARTMENT OF HOMELAND SECURITY

Coast Guard

33 CFR Part 165

[Docket No. USCG-2024-0360]

Safety Zones; Annual Events in the Captain of the Port Detroit Zone

AGENCY: Coast Guard, DHS.

ACTION: Notice of enforcement of regulation.

SUMMARY: The Coast Guard will enforce various safety zones for annual marine events in the Captain of the Port Detroit zone. Enforcement of these safety zones is necessary to protect the safety of life and property on the navigable waters immediately prior to, during, and immediately after these events. During each enforcement period, no person or vessel may enter the respective safety zone without permission of the Captain of the Port Detroit or his designated representative.

DATES: The regulations in 33 CFR 165.941 will be enforced for the safety zones identified in the SUPPLEMENTARY INFORMATION section on the dates and times specified.

FOR FURTHER INFORMATION CONTACT: If you have questions on this document, call or email Tracy Girard, Prevention Department, U.S. Coast Guard; telephone (313) 568-9564, email Tracy.M.Girard@uscg.mil.

SUPPLEMENTARY INFORMATION: The Coast Guard will enforce the following annual Sector Detroit safety zones listed in table 1 to 33 CFR 165.941:

Event No. (3): Bay-Rama Fish Fly Festival Fireworks, New Baltimore, MI, from 10 p.m. to 10:30 p.m. on June 16, 2025, with an inclement weather date of June 17, 2025.

Event No. (4): Sigma Gamma Fireworks, Grosse Pointe Farms, MI, from 10 p.m. to 10:30 p.m. on June 17, 2025.

Event No. (6): Ford Fireworks (formerly known as Detroit Fireworks), Detroit, MI, from 6 p.m. to 11:55 p.m. on June 23, 2025, and from 7 p.m. to 11:59 p.m. on June 23, 2025, with an inclement weather date of June 24, 2025.

Under the provisions of § 165.941, entry into, transiting, or anchoring within these safety zones during the enforcement period is prohibited unless authorized by the Captain of the Port (COTP) Detroit or their designated representative. Vessels that wish to transit through the safety zones may request permission from the COTP Detroit or their designated representative. Requests must be made in advance and approved by the COTP Detroit before transits will be authorized. Approvals will be granted on a case-by-case basis. The COTP Detroit may be contacted via Coast Guard Sector Detroit on channel 16, VHF-FM or by calling (313) 568-9564. The Coast Guard will give notice to the public via Local Notice to Mariners and VHF radio broadcasts that the regulation is in effect.

If the COTP Detroit determines that any of these safety zones need not be enforced for the full duration stated in this notice, he may suspend enforcement and notify the public of the suspension via a Broadcast Notice to Mariners.

Dated: April 28, 2025.
Richard P. Armstrong,
Captain, U.S. Coast Guard, Captain of the Port Detroit.

[FR Doc. 2025-07879 Filed 5-5-25; 8:45 am]

BILLING CODE 9110-04-P